DEPARTMENT OF LABOR

Employment and Training Administration

[TA-W-62,639; TA-W-62,639A]

Bombardier Transportation, Propulsion Division, Including On-Site Leased Workers From Adecco, Pittsburgh, PA; Bombardier Transportation, Total Transit Systems Division, Including On-Site Leased Workers From Adecco, Pittsburgh, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 27, 2008, applicable to workers of Bombardier Transportation, Propulsion Division, Pittsburgh, Pennsylvania and Bombardier Transportation, Total Transit Systems Division, Pittsburgh, Pennsylvania. The notice was published in the Federal Register on April 11, 2008 (73 FR 19899).

At the request of a petitioner, the Department reviewed the certification for workers of the subject firm. The workers are engaged in the production of propulsion equipment and automated transit systems.

New information shows that leased workers of Adecco were employed on-site at the Propulsion Division, Pittsburgh, Pennsylvania and the Total Transit Systems Division, Pittsburgh, Pennsylvania locations of Bombardier Transportation. The Department has determined that these workers were sufficiently under the control of the subject firm to be considered leased workers.

Based on these findings, the Department is amending this certification to include leased workers of Adecco working on-site at the Propulsion Division, Pittsburgh, Pennsylvania and the Total Transit Systems Division, Pittsburgh, Pennsylvania locations of the subject firm.

The intent of the Department's certification is to include all workers employed at Bombardier Transportation, Propulsion Division, Pittsburgh, Pennsylvania and Bombardier Transportation, Total Transit Systems Division, Pittsburgh, Pennsylvania who were adversely affected by increased imports.

The amended notice applicable to TA-W-62,639 and TA-W-62,639A are hereby issued as follows:

All workers of Bombardier Transportation, Propulsion Division, including on-site leased workers from Adecco, Pittsburgh, Pennsylvania (TA-W-62,639) and Bombardier Transportation, Total Transit Systems Division, including on-site leased workers from Adecco, Pittsburgh, Pennsylvania (TA-W-62,639A), who became totally or partially separated from employment on or after December 31, 2006, through March 27, 2010, are eligible to apply for adjustment assistance under Section 223 of the Trade Act of 1974, and are also eligible to apply for alternative trade adjustment assistance under Section 246 of the Trade Act of 1974.

Signed at Washington, DC, this 22nd day of May 2008.
Elliott S. Kushner,
Certifying Officer, Division of Trade Adjustment Assistance.

[FR Doc. E8-12329 Filed 6-2-08; 8:45 am]

BILLING CODE 4510-FN-P